DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of November 1, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Cook County, Illinois and Incorporated Areas
Docket No.: FEMA-B-1828
City of Oak Forest | City Hall, 15440 South Central Avenue, Oak Forest, IL 60452.
Unincorporated Areas of Cook County | Cook County Building and Zoning Department, 69 West Washington, Suite 2830, Chicago, IL 60602.
Village of Alsip | Village Hall, 4500 West 123rd Street, Alsip, IL 60803.
Village of Crestwood | Village Hall, 13840 South Cicero Avenue, Crestwood, IL 60418.
Village of Orland Hills | Village Hall, 16033 South 94th Avenue, Orland Hills, IL 60487.
Village of Orland Park | Village Hall, 14700 South Ravinia Avenue, Orland Park, IL 60462.
Village of Palos Park | Kaptur Administrative Center, 8999 West 123rd Street, Palos Park, IL 60464.
Village of Tinley Park | Village Hall, 16250 South Oak Park Avenue, Tinley Park, IL 60477.
Knox County, Missouri and Incorporated Areas
Docket No.: FEMA-B-1851
City of Edina | City Hall, 204 East Monticello Street, Edina, MO 63537.
City of Novelty | Knox County Courthouse, 107 North 4th Street, Edina, MO 63537.
Unincorporated Areas of Knox County | Knox County Courthouse, 107 North 4th Street, Edina, MO 63537.
Village of Newark | Village Hall, 105 North Main Street, Newark, MO 63458.
Ripley County, Missouri and Incorporated Areas
Docket No.: FEMA-B-1851
City of Doniphan | City Hall, 124 West Jefferson Street, Doniphan, MO 63935.
City of Naylor | City Hall, 101 North Front Street, Naylor, MO 63953.
Unincorporated Areas of Ripley County | Ripley County Courthouse, 100 Courthouse Square, Doniphan, MO 63935.
Burnet County, Texas and Incorporated Areas
Docket No.: FEMA-B-1769 and FEMA-B-1830
City of Burnet | City Hall, 1001 Buchanan Drive, Suite 4, Burnet, TX 78611.
City of Marble Falls | Development Services Department, 801 4th Street, Marble Falls, TX 78654.
City of Meadowlakes | City Hall, 177 Broadmoor Street, Suite A, Meadowlakes, TX 78654.
Unincorporated Areas of Burnet County | Burnet County Development Services, Annex on the Square, 133 East Jackson Street, Room 107, Burnet, TX 78611.

[FR Doc. 2019-14328 Filed 7-3-19; 8:45 am]

BILLING CODE 9110-12-P